Proclamation 10367 of April 8, 2022

National Former Prisoner of War Recognition Day, 2022

By the President of the United States of America

A Proclamation

On April 9, 1942, tens of thousands of American and Filipino prisoners of war began what would become known to history as the Bataan Death March. Thousands died during the march, but the indomitable spirit of those prisoners was never broken. Eighty years later, our Nation continues to honor their courage and recognize the more than half a million service members who sacrificed their own freedom as prisoners of war to ensure that our Nation and the values of freedom and democracy always prevail.

Former prisoners of war stand among the bravest of our Nation. They fought valiantly and served with honor—and under often agonizing conditions as prisoners, they demonstrated incredible personal courage, love of country, and devotion to duty. Through their extraordinary sacrifices and selflessness, they helped ensure freedom for millions of people. They are heroes.

I join all Americans in expressing our deepest gratitude to every service member who has endured being a prisoner of war and to their families, caregivers, and survivors. Their service—knowing all the risk and danger it could bring—is a credit to their character and to our Nation. On this day and every day, we remember the hardships of captivity they survived in service to our Nation. We also remember all the brave women and men who died as prisoners in foreign lands during our Nation's past wars, and we grieve with those at home who prayed for their loved ones' return. Their faith, love of family, and devotion to our Nation inspire us all, and we will always remember their sacrifices.

Today, our brave men and women in uniform carry on the rich legacy of our former prisoners of war—unrelenting in battle, unwavering in loyalty, unmatched in decency, and prepared to make the ultimate sacrifice on behalf of our Nation.

May God bless our former prisoners of war and their families, and may God protect our troops.

NOW, THEREFORE, I, JOSEPH R. BIDEN JR., President of the United States of America, by virtue of the authority vested in me by the Constitution and the laws of the United States, do hereby proclaim April 9, 2022, as National Former Prisoner of War Recognition Day. I call upon Americans to observe this day by honoring the service and sacrifice of all former prisoners of war as our Nation expresses its eternal gratitude for their sacrifice. I also call upon Federal, State, and local government officials and organizations to observe this day with appropriate ceremonies and activities.

IN WITNESS WHEREOF, I have hereunto set my hand this eighth day of April, in the year of our Lord two thousand twenty-two, and of the Independence of the United States of America the two hundred and forty-sixth.

[FR Doc. 2022-08080

Filed 4-12-22; 11:15 am]

Billing code 3395-F2-P